DEPARTMENT OF TRANSPORTATION

Pipeline And Hazardous Materials Safety Administration

Office of Hazardous Materials Safety; Notice of Application for Special Permits

AGENCY: Pipeline and Hazardous Materials Safety Administration (PHMSA), DOT.

ACTION: List of applications for special permits.

SUMMARY: In accordance with the procedures governing the application for, and the processing of, special permits from the Department of Transportation's Hazardous Material Regulations (49 CFR Part 107, Subpart B), notice is hereby given that the Office of Hazardous Materials Safety has received the application described herein. Each mode of transportation for which a particular special permit is requested is indicated by a number in the “Nature of Application” portion of the table below as follows: 1—Motor vehicle, 2—Rail freight, 3—Cargo vessel, 4—Cargo aircraft only, 5—Passenger-carrying aircraft.

DATES: Comments must be received on or before November 28, 2011.

Address Comments To: Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION CONTACT: Copies of the applications are available for inspection in the Records Center, East Building, PHH-30, 1200 New Jersey Avenue, SE., Washington, DC or at http://regulations.gov.

This notice of receipt of applications for special permit is published in accordance with Part 107 of the Federal hazardous materials transportation law (49 U.S.C. 5117(b); 49 CFR 1.53(b)).

Issued in Washington, DC, on October 5, 2011.
Donald Burger,
Chief, General Approvals and Permits.

Application number | Docket No. | Applicant | Regulation(s) affected | Nature of special permits thereof
NEW SPECIAL PERMITS
14558-N |  | Southern States LLC | 49 CFR 49 CFR Parts 171-181; 49 CFR 172.301 (c); and 173.304 | To authorize the transportation in commerce of specially designed non-DOT specification cylinders containing compressed sulfur hexafluoride. (modes 1, 2, 3, 4.)
15461-N |  | Kidde Products High Bentham, Yo | 49 CFR 171.23 | To authorize the transportation in commerce of non-DOT specification cylinders containing a Division 2.2 compressed gas. (modes 1, 2, 3.)
15464-N |  | Alliant Techsystems Operations, LLC. Eden Prairie, MN | 49 CFR 173.56 | To authorize the transportation in commerce of ammunition and components that have been combined with non-hazardous materials and are being transported as hazardous waste without a new EX classification. (mode 1.)
15468-N |  | Prism Helicopters Inc. Wassilla, AK | 49 CFR 172.101 Column (9B) | To authorize the transportation in commerce of certain Class 1 explosive materials which are forbidden for transportation by air, to be transported by cargo aircraft within the State of Alaska when other means of transportation are impracticable or not available. (mode 4.)
15469-N |  | B.J. Alan Company Youngstown, OH | 49 CFR 173.62 | To authorize the transportation in commerce of certain fireworks in large packagings. (mode 1.)
15470-N |  | Wilson Construction Company Canby, OR | 49 CFR 172.101 Column (9B), 172.204 (c)(3), 173.27 (b)(2), 175.30 (a)(1), and 172.200 | To authorize the transportation in commerce of certain hazardous materials by cargo aircraft including by external load in remote areas of the US without being subject to hazard communication requirements and quantity limitations where no o0ther means of transportation is available. (mode 4.)
15471-N |  | National Aeronautics & Space Administration (NASA) Washington, DC | 49 CFR 173.172 | To authorize the transportation in commerce of a Space Shuttle Orbiter Auxiliary Power Unit subsystem fuel propellant tank containing the residue of Hydrazine, anhydrous which does not meet the requirements of 49 CFR 173.172. (mode 1.)
15473-N |  | Eagle Helicopters Inc. dba Kachina Aviation Nampa, ID | 49 CFR 172.101 Column (9B), 172.204 (c)(3), 173.27 (b)(2), 175.30 (a)(1), and 172.200 | To authorize the transportation in commerce of certain hazardous materials by cargo aircraft including by external load in remote areas of the U.S. without being subject to hazard communication requirements and quantity limitations where no other means of transportation is available. (mode 4.)

[FR Doc. 2011-27112 Filed 10-26-11; 8:45 am]

BILLING CODE 4909-60-M